SUSQUEHANNA RIVER BASIN COMMISSION

Notice of Public Hearing and Commission Meeting

AGENCY: Susquehanna River Basin Commission.

ACTION: Notice of public hearing and commission meeting.

SUMMARY: The Susquehanna River Basin Commission will hold a public hearing as part of its regular business meeting beginning at 8:30 a.m. on March 18, 2010, in State College, Pa. At the public hearing, the Commission will consider: (1) Action on certain water resources projects; (2) action on one project involving a diversion; (3) compliance matters involving three projects; and (4) the rescission of a previous docket approval. Details concerning the matters to be addressed at the public hearing and business meeting are contained in the Supplementary Information section of this notice.

DATES: March 18, 2010, at 8:30 a.m.

ADDRESSES: Toftrees Golf Resort & Conference Center, One Country Club Lane, State College, PA 16803.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net.

SUPPLEMENTARY INFORMATION: In addition to the public hearing and its related action items identified below, the business meeting also includes actions or presentations on the following items: (1) A presentation by the Pennsylvania Department of Conservation and Natural Resources Deputy Secretary James Grace on natural gas exploration on state forest and park lands; (2) a presentation on hydrologic conditions of the basin with emphasis on National Flood Safety Week; (3) an update on the recently authorized SRBC Remote Water Quality Monitoring Network; (4) ratification/approval of grants/contracts; and (5) revision of the FY-2011 budget. The Commission will also hear a Legal Counsel's report.

Public Hearing—Compliance Matters:

1. Project Sponsor: Chesapeake Energy Corporation—Eastern Division. Pad ID: Ward (ABR-20090519), Burlington Township, and Sullivan 1 (ABR-20080715), Athens Township, Bradford County, Pa.

2. Project Sponsor: Novus Operating, LLC. Pad ID: Sylvester 1H and North Fork 1H, Brookfield Township, Tioga County, Pa.

3. Project Sponsor: Southwestern Energy Production Company. Pad ID: Ferguson, Wyalusing Township, Bradford County, Pa.

Public Hearing—Projects Scheduled for Action:

1. Project Sponsor and Facility: Carrizo Oil & Gas, Inc. (Mosquito Creek—Hoffman), Karthaus Township, Clearfield County, Pa. Application for surface water withdrawal of up to 0.720 mgd.

2. Project Sponsor: Chester County Solid Waste Authority. Project Facility: Lanchester Landfill, Salisbury and Caernarvon Townships, Lancaster County, Pa. Application for groundwater withdrawal of 0.190 mgd (30-day average) from two wells and three collection sumps.

3. Project Sponsor: Chester County Solid Waste Authority. Project Facility: Lanchester Landfill, Salisbury and Caernarvon Townships, Lancaster County, Pa. Application for consumptive water use of up to 0.075 mgd.

4. Project Sponsor and Facility: EQT Production Company (West Branch Susquehanna River—Kuntz), Greenwood Township, Clearfield County, Pa. Application for surface water withdrawal of up to 0.900 mgd.

5. Project Sponsor and Facility: EXCO-North Coast Energy, Inc. (West Branch Susquehanna River—Johnson), Clinton Township, Lycoming County, Pa. Application for surface water withdrawal of up to 0.999 mgd.

6. Project Sponsor and Facility: Fortuna Energy Inc. (Fall Brook—Bense), Troy Township, Bradford County, Pa. Application for surface water withdrawal of up to 1.000 mgd.

7. Project Sponsor and Facility: Fortuna Energy Inc. (Unnamed Tributary to North Branch Sugar Creek—Besley), Columbia Township, Bradford County, Pa. Application for surface water withdrawal of up to 2.000 mgd.

8. Project Sponsor and Facility: Fortuna Energy Inc. (South Branch Sugar Creek—Shedden), Troy Township, Bradford County, Pa. Application for surface water withdrawal of up to 0.900 mgd.

9. Project Sponsor and Facility: Fortuna Energy Inc. (Sugar Creek—Hoffman), West Burlington Township, Bradford County, Pa. Modification to increase the surface water withdrawal from 0.250 mgd up to 2.000 mgd (Docket No. 20090327).

10. Project Sponsor: Graymont (PA), Inc. Project Facility: Pleasant Gap Facility, Spring Township, Centre County, Pa. Application for groundwater withdrawal of 0.099 mgd (30-day average) from the Plant Make-up Well.

11. Project Sponsor and Facility: Harley-Davidson Motor Company Operations, Inc., Springettsbury Township, York County, Pa. Modification to add a groundwater withdrawal of 0.144 mgd (30-day average) from Well CW-20 to the remediation system, without any increase to total system withdrawal quantity (Docket No. 19980901).

12. Project Sponsor and Facility: Harley-Davidson Motor Company Operations, Inc., Springettsbury Township, York County, Pa. Modification to project features of the withdrawal approval (Docket No. 19900715).

13. Project Sponsor and Facility: Healthy Properties, Inc. (Sugar Creek—owner), North Towanda Township, Bradford County, Pa. Application for surface water withdrawal of up to 0.450 mgd.

14. Project Sponsor and Facility: Mountain Energy Services, Inc. (Tunkhannock Creek—Deer Park Lumber, Inc.), Tunkhannock Township, Wyoming County, Pa. Application for surface water withdrawal of up to 0.999 mgd.

15. Project Sponsor and Facility: Randy M. Wiernusz (Bowman Creek—owner), Eaton Township, Wyoming County, Pa. Application for surface water withdrawal of up to 0.249 mgd.

16. Project Sponsor and Facility: Sunnyside Ethanol, LLC (West Branch Susquehanna River—1—owner), Curwensville Borough, Clearfield County, Pa. Application for surface water withdrawal of up to 1.270 mgd.

17. Project Sponsor and Facility: Sunnyside Ethanol, LLC (West Branch Susquehanna River—2—owner), Curwensville Borough, Clearfield County, Pa. Application for surface water withdrawal of up to 0.710 mgd.

18. Project Sponsor and Facility: Sunnyside Ethanol, LLC, Curwensville Borough, Clearfield County, Pa. Application for consumptive water use of up to 1.980 mgd.

19. Project Sponsor and Facility: TerrAqua Resource Management (Tioga River—Larson Design Group), Lawrenceville Borough, Tioga County, Pa. Application for surface water withdrawal of up to 0.543 mgd.

20. Project Sponsor and Facility: TerrAqua Resource Management, Lawrenceville Borough, Tioga County, Pa. Application for consumptive water use of up to 0.543 mgd.

21. Project Sponsor and Facility: Walker Township Water Association, Walker Township, Centre County, Pa. Modification to increase the total groundwater system withdrawal limit (30-day average) from 0.523 mgd to 0.962 mgd (Docket No. 20070905).

22. Project Sponsor and Facility: XTO Energy, Inc. (Lick Run—Dincher), Shrewsbury Borough, Lycoming County, Pa. Application for surface water withdrawal of up to 0.249 mgd.

23. Project Sponsor and Facility: XTO Energy, Inc. (Little Muncy Creek—Temple), Moreland Township, Lycoming County, Pa. Application for surface water withdrawal of up to 0.249 mgd.

Public Hearing—Project Scheduled for Action Involving a Diversion:

1. Project Sponsor: Chester County Solid Waste Authority. Project Facility: Lanchester Landfill, Salisbury and Caernarvon Townships, Lancaster County, Pa. Application for an existing into-basin diversion of up to 0.050 mgd from the Delaware River Basin.

Public Hearing—Project Scheduled for Rescission Action:

1. Project Sponsor and Facility: Chesapeake Appalachia, LLC (Susquehanna River) (Docket No. 20080907), Oakland Township, Susquehanna County, Pa.

Opportunity to Appear and Comment:

Interested parties may appear at the above hearing to offer written or oral comments to the Commission on any matter on the hearing agenda, or at the business meeting to offer written or oral comments on other matters scheduled for consideration at the business meeting. The chair of the Commission reserves the right to limit oral statements in the interest of time and to otherwise control the course of the hearing and business meeting. Written comments may also be mailed to the Susquehanna River Basin Commission, 1721 North Front Street, Harrisburg, Pennsylvania 17102-2391, or submitted electronically to Richard A. Cairo, General Counsel, e-mail: rcairo@srbc.net or Stephanie L. Richardson, Secretary to the Commission, e-mail: srichardson@srbc.net. Comments mailed or electronically submitted must be received prior to March 12, 2010, to be considered.

Authority: Pub. L. 91-575, 84 Stat. 1509 et seq., 18 CFR Parts 806, 807, and 808.

Dated: February 16, 2010.
Thomas W. Beauduy,
Deputy Director.

[FR Doc. 2010-3808 Filed 2-24-10; 8:45 am]

BILLING CODE 7040-01-P